DEPARTMENT OF COMMERCE

National Oceanic and Atmospheric Administration

50 CFR Part 660

[Docket No. 010502110-1110-01; I.D. 082301B]

Fisheries Off West Coast States and in the Western Pacific; West Coast Salmon Fisheries; Inseason Adjustment for the Commercial Salmon Season from Humbug Mt., OR, to the OR-CA Border

AGENCY: National Marine Fisheries Service (NMFS), National Oceanic and Atmospheric Administration (NOAA), Commerce.

ACTION: Inseason adjustment to the 2001 annual management measures for the ocean salmon fishery; request for comments.

SUMMARY: NMFS announces a modification of the limited retention regulation for the commercial fishery from Humbug Mt., OR, to the OR-CA border, suspending the possession and landing limit of 30 fish per day until further notice. This action was effective at 0001 hours local time (l.t.) on August 9, 2001. The fishery continues through the earlier of August 31 or a 3,000-chinook quota, however further inseason adjustments will be instituted if needed. This action is necessary to conform to the 2001 annual management measures for ocean salmon fisheries.

DATES: Effective 0001 hours l.t., August 9, 2001, through the earlier of August 31 or a 3,000-chinook quota. Comments will be accepted through September 25, 2001.

ADDRESSES: Comments on this action may be mailed to Donna Darm, Acting Regional Administrator, Northwest Region, NMFS, NOAA, 7600 Sand Point Way N.E., Bldg. 1, Seattle, WA 98115-0070; fax 206-526-6376; or Rebecca Lent, Regional Administrator, Southwest Region, NMFS, NOAA, 501 W. Ocean Blvd., Suite 4200, Long Beach, CA 90802-4132; fax 562-980-4018. Comments will not be accepted if submitted via e-mail or the Internet. Information relevant to this document is available for public review during business hours at the Office of the Regional Administrator, Northwest Region, NMFS.

FOR FURTHER INFORMATION CONTACT: Christopher Wright, 206-526-6140, Northwest Region, NMFS, NOAA.

SUPPLEMENTARY INFORMATION: The Northwest Regional Administrator, NMFS (Regional Administrator), modified the limited retention regulation for the commercial fishery from Humbug Mt. to the OR-CA border, by suspending the possession and landing limit of 30 fish per day until further notice, effective at 0001 l.t. on August 9, 2001. The Regional Administrator determined that the modification was justified to provide greater opportunity to reach the 3000-chinook quota. Modification of the species that may be caught and landed during specific seasons, and the establishment or modification of limited retention regulations, is authorized by regulations at 50 CFR 660.409 (b)(1)(ii).

In the 2001 annual management measures for ocean salmon fisheries (66 FR 23185, May 8, 2001), NMFS announced that the commercial fishery for all salmon except coho from Humbug Mt. to the OR-CA border would open August 1 through the earlier of August 31 or a 3,000-chinook quota. The annual management measures included a possession and landing limit of 30 fish per day, and required that fishermen land and deliver all salmon to Gold Beach, Port Orford, or Brookings within 24 hours of closure.

The Regional Administrator consulted with representatives of the Pacific Fishery Management Council (Council) and Oregon Department of Fish and Wildlife (ODFW) regarding the above-described inseason action by conference call on August 8, 2001. ODFW reported that the chinook catch rate and effort were lower than projected preseason, and that only 100 chinook had been landed as of August 7. Therefore, ODFW recommended that the season be modified by suspending the possession and landing limit of 30 fish per day until further notice, effective at 0001 on August 9, 2001. ODFW reasoned that suspending the possession and landing limit provided greater opportunity to search for fish in outlying areas, thus increasing the potential for improving catch rates beyond those observed to date. All other restrictions that apply to this fishery remain in effect, as announced in the 2001 annual management measures for ocean salmon fisheries and subsequent inseason actions. This includes the requirement that all salmon be landed and delivered to Gold Beach, Port Orford, or Brookings.

The Regional Administrator consulted with representatives of the Council and ODFW regarding the above-described inseason action by conference call on August 8, 2001. The best available information regarding catch and effort to date, as well as projected catch and effort, supported modifying the commercial fishery to provide greater opportunity to catch harvestable fish within the limit of the 3000-chinook quota. The state will manage the fisheries in state waters adjacent to the areas of the exclusive economic zone in accordance with this Federal action. As provided by the inseason notice procedures of 50 CFR 660.411, actual notice to fishermen of the adjustment in the area from Humbug Mt. to the OR-CA border, effective 0001 hours l.t., August 9, 2001, was given prior to the effective date by telephone hotline number 206-526-6667 and 800-662-9825, and by U.S. Coast Guard Notice to Mariners broadcasts on Channel 16 VHF-FM and 2182 kHz.

Because of the need for immediate action for the modification for the area from Humbug Mt. to the OR-CA border to allow harvest of the available chinook quota, NMFS has determined that good cause existed for this notification to be issued without affording a prior opportunity for public comment because such notification would be impracticable and contrary to the public interest. Since this action eliminates the possession and landing limit of 30 fish per day, it relieves a restriction, and under 5 U.S.C. 553 (d)(1) it is not subject to a delay in the effective date.

This action does not apply to other fisheries that may be operating in other areas.

Classification

This action is authorized by 50 CFR 660.409 and 660.411 and is exempt from review under Executive Order 12866.

Authority: 16 U.S.C. 1801 et seq.

Dated: September 4, 2001.
Bruce C. Morehead,
Acting Director, Office of Sustainable Fisheries, National Marine Fisheries Service.

[FR Doc. 01-22640 Filed 9-7-01; 8:45 am]

BILLING CODE 3510-22-S